PEACE CORPS

Information Collection Requests under OMB Review

AGENCY: Peace Corps.

Proposed Collection of Information

ACTION: Submission for Office of Management and Budget (OMB) review; comment request.

SUMMARY: The Peace Corps will be submitting the following information collection request to the Office of Management and Budget (OMB) for approval of an existing collection in use without an OMB Control Number. In compliance with the Paperwork Reduction Act of 1995 (44 USC Chapter 35), the Peace Corps invites the general public to comment on this request for approval of an existing collection in use without an OMB Control Number, Peace Corps Response Applicant Personal and Professional Reference forms.

DATES: Comments regarding this collection must be received on or before August 22, 2011.

ADDRESSES: Interested persons are invited to submit comments regarding this proposal. Comments should refer to the proposal by name/or OMB approval number and should be sent via e-mail to: oira_submission@omb.eop.gov or fax to: 202-395-3086. Attention: Desk Officer for Peace Corps.

FOR FURTHER INFORMATION CONTACT: Denora Miller, FOIA Officer, Peace Corps, 1111 20th Street, NW., Washington, DC 20526, (202) 692-1236, or e-mail at pcfr@peacecorps.gov. Copies of available documents submitted to OMB may be obtained from Denora Miller.

SUPPLEMENTARY INFORMATION: This information collection is used by Peace Corps Response staff to learn from someone, who knows a volunteer applicant and his or her background, whether the applicant possesses the necessary characteristics and skills to serve as a Peace Corps Response Volunteer.

Title: Reference Form for Peace Corps Response Candidates (Professional).

Reference Form for Peace Corps Response Candidates (Personal).

OMB Control Number: [0420-pending].

Type of Review: Existing collection in use without an OMB Control Number.

Respondents: Returned Peace Corps Volunteer and general public.

Burden to the Public:

Estimated number of applicants—2,500.

Estimated number of applicants who submit references—500.

Estimated number of reference required per applicant—2.

Estimated number of reference forms received—1,000.

Frequency of response—One time.

Estimated average time to respond:—10 minutes.

Annual burden hours—167 hours.

Estimated annual cost to respondents—$0.00.

This notice issued in Washington, DC, on July 18, 2011.
Earl W. Yates,
Associate Director for Management.

[FR Doc. 2011-18553 Filed 7-21-11; 8:45 am]

BILLING CODE 6051-01-P